FEDERAL COMMUNICATIONS COMMISSION

[MD Docket No. 13-163; DA 13-1400]

Office of Managing Director Creates Docket for Petitions Seeking Review of Application Fee Refund Denials

AGENCY: Federal Communications Commission.

ACTION: Notice.

SUMMARY: The Office of Managing Director has created the new docket shown above for petitions seeking review of application fee refund denials. Consolidating all these related pleadings in a separate docket will promote administrative efficiency and enhance public accessibility to these filings.

DATES: Effective June 18, 2013.

FOR FURTHER INFORMATION CONTACT: Ann Monahan, Federal Communications Commission, Financial Management Specialist, Office of the Managing Director, 445 12th Street SW., Room 1-A821, (202) 418-2535.

SUPPLEMENTARY INFORMATION: On March 27, 2013 the Chief Financial Officer, acting on delegated authority, denied requests for refund of application fees previously paid by winning bidders in media service auctions held between 2004 and 2011 and sought repayment of refunds previously made in error. Petitions for Reconsideration and Applications for Review that have already been filed are being assigned to new MD Docket No. 13-163, and will be available electronically on the Commission's Electronic Comment Filing System (ECFS). All future pleadings related to these matters should also be filed electronically in this docket.

The following Applications for Review have been assigned to MD Docket No. 13-163:

A & J Media LLC

Absolute Communications, LLC

Airen Broadcasting Company

Bott Communications, Inc.

California Radio Partners

Sheila Callahan & Friends, Inc.

Champlin Broadcasting, Inc.

Cochise Media Licensees, LLC

College Creek Broadcasting, Inc.

E-String Wireless, Ltd.

Edward Paul De La Hunt

Delta Media Corporation

William C. Doleman

Julie Epperson

Fox Radio Network, LLC

Georgia Eagle Broadcasting, Inc.

Grenax Broadcasting III, LLC

Hispanic Target Media et al.

Horizon Christian Fellowship

Independence Media Holdings, LLC

JAB Broadcasting, LLC

Keystone Broadcasting Corporation

Legacy Communications, LLC

Mattox Broadcasting, Inc.

Pampas Broadcasters, Inc.

Porter Hogan Charitable Trust #1

Programmers Broadcasting, Inc.

RadioJones, LLC

Richland Reserve, LLC

Skywest Media, LLC

Stroh Communications Corporation

Howard C. Toole

Tri State Radio, LLC

Virtues Communications Network, LLC

Western Pacific Broadcast LLC

Williston Community Broadcasting Corporation

The following Petitions for Reconsideration have also been assigned to MD Docket No. 13-163:

Catholic Radio Network, Inc. (KEXS-FM)

Catholic Radio Network, Inc. (KPIO-FM)

Richard Comras

Janet Jensen

Gary Katz

This assignment does not constitute a finding that the petitions were timely filed or otherwise comply with the Commission's rules. Pursuant to § 1.1200(a) of the rules, the Commission will treat each petition as a separate proceeding for purposes of the ex parte rules and the “permit but disclose” requirements set forth in § 1.1206 of the rules will apply.

Federal Communications Commission.
Debra Weiner,
Deputy Associate General Counsel.

[FR Doc. 2013-16012 Filed 7-2-13; 8:45 am]

BILLING CODE 6712-01-P